DEPARTMENT OF HOUSING AND URBAN DEVELOPMENT

[Docket No. FR-4907-N-35]

Notice of Submission of Proposed Information Collection to OMB; Emergency Comment Request; Emergency Capital Repair Program

AGENCY: Office of Housing, HUD.

ACTION: Notice of proposed information collection.

SUMMARY: The proposed information collection requirement described below has been submitted to the Office of Management and Budget (OMB) for emergency review and approval, as required by the Paperwork Reduction Act. The Department is soliciting public comments on the subject proposal.

This is a request for approval of a revision to the currently approved information collection for selecting applicants for the Assisted Living Conversion Program.

Congress has introduced a new facet to the ALCP Program authorizing Emergency Capital Repair grants for Owners of projects that need emergency repair work. This emergency capital repair grant funding will be for repairs at projects to correct situations that present immediate threats to the life, health and safety of project tenants.

DATES: Comments Due Date: January 3, 2005.

ADDRESSES: Interested persons are invited to submit comments regarding this proposal. Comments must be received within seven (7) days from the date of this Notice. Comments should refer to the proposal by name/or OMB approval number (2502-0542) and should be sent to: HUD Desk Officer, Office of Management and Regulatory Affairs, Office of Management and Budget, New Executive Office Building, Washington, DC 20503.

FOR FURTHER INFORMATION CONTACT: Wayne Eddins, Paperwork Reduction Act Compliance Officer, AYO, Department of Housing and Urban Development, 451 Seventh Street, SW., Washington, DC 20410; e-mail Wayne_Eddins@HUD.gov; telephone (202) 708-2374. This is not a toll-free number. Copies of available documents submitted to OMB may be obtained from Mr. Eddins or on HUD's Web site at http://www5.hud.gov:63001/po/i/icbts/collectionsearch.cfm

SUPPLEMENTARY INFORMATION: This Notice informs the public that the U.S. Department of Housing and Urban Development (HUD) has submitted to OMB, for emergency processing, a proposed revision to the currently approved information collection for selecting applicants for the Emergency Capital Repair Program grants.

This Notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: Emergency Capital Repair Program.

Description of Information Collection: This is a revision to the currently approved information collection for selecting applicants for the Assisted Living Conversion Program grants.

Congress has introduced a new facet to the ALCP authorizing Emergency Capital Repair grant funding for Owners of projects that need to correct situations that present immediate threats to the life, health and safety of project tenants. This emergency capital repair grant funding will be used to repair or replace major building and structural components as well as mechanical equipment to the extent they are necessary for health and safety reasons.

OMB Control Number: 2502-0542.

Agency Form Numbers: Standard Forms 424, 424-Supplemental, LLL and HUD forms 424B, 424-C, 2880, 2990, 2991, 96010, 2530, 50080-ALCP, 50080-ECRG, 27300, 92045.

Members of Affected Public: Not-for-profit project owners.

Estimation of the total numbers of hours needed to prepare the information collection including number of respondents, frequency of responses, and hours of response: An estimation of the total number of hours needed to prepare the information collection is 3,360. The estimated number of respondents is 30, and the frequency of response is on occasion.

Status: Revision of a currently approved collection.

Authority: The Paperwork Reduction Act of 1995, 44 U.S.C. Chapter 35, as amended.

Dated: December 17, 2004.
John C. Weicher,
Assistant Secretary for Housing -Federal Housing Commissioner.

[FR Doc. E4-3805 Filed 12-23-04; 8:45 am]

BILLING CODE 4210-08-P